DEPARTMENT OF HEALTH AND HUMAN SERVICES

Food and Drug Administration

[Docket No. FDA-2013-N-0502]

Report on the Standardization of Risk Evaluation and Mitigation Strategies; Correction

AGENCY: Food and Drug Administration, HHS.

ACTION: Notice; correction.

SUMMARY: The Food and Drug Administration (FDA) is correcting a notice entitled “Report on the Standardization of Risk Evaluation and Mitigation Strategies” that appeared in the Federal Register of September 23, 2014. The document misstated the name of an organization. This document corrects that error.

FOR FURTHER INFORMATION CONTACT: Richard Currey, Center for Drug Evaluation and Research, Food and Drug Administration, 10903 New Hampshire Ave., Bldg. 51, Rm. 6125, Silver Spring, MD 20993-0002, 301-796-3918, FAX: 301-595-7910, REMS_Standardization@fda.hhs.gov; or Adam Kroetsch, Center for Drug Evaluation and Research, Food and Drug Administration, 10903 New Hampshire Ave., Bldg. 51, Rm. 1192, Silver Spring, MD 20993-0002; 301-796-3842, FAX: 301-847-8443, REMS_Standardization@fda.hhs.gov.

SUPPLEMENTARY INFORMATION: In the Federal Register of September 23, 2014 (79 FR 56816), in FR Doc. 2014-22513, the following correction is made:

1. On page 56817, in the third column, under “Draft Report Describing Findings Concerning REMS Standardization and Plans for Projects to Standardize REMS,” “Accreditation Commission for Education in Nursing” is corrected to read “American Nurses Credentialing Center.”

Dated: November 17, 2014.
Leslie Kux,
Associate Commissioner for Policy.

[FR Doc. 2014-27522 Filed 11-20-14; 8:45 am]

BILLING CODE 4164-01-P